DEPARTMENT OF TRANSPORTATION

Federal Aviation Administration

14 CFR Part 39

[Docket No. FAA-2012-0721; Directorate Identifier 2012-NM-076-AD]

RIN 2120-AA64

Airworthiness Directives; Bombardier, Inc. Airplanes

AGENCY: Federal Aviation Administration (FAA), DOT.

ACTION: Notice of proposed rulemaking (NPRM).

SUMMARY: We propose to adopt a new airworthiness directive (AD) for certain Bombardier, Inc. Model CL-600-2B19 (Regional Jet Series 100 & 440) airplanes. This proposed AD was prompted by reports that airplanes with a Class C cargo (baggage) compartment have liners that do not meet flammability requirements. This proposed AD would require replacing the existing cargo compartment liners with liners that comply. We are proposing this AD to prevent inadequate fire protection in the cargo compartment and consequent uncontrolled fire.

DATES: We must receive comments on this proposed AD by September 4, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For Bombardier service information identified in this proposed AD, contact Bombardier, Inc., 400 Côte-Vertu Road West, Dorval, Québec H4S 1Y9, Canada; telephone 514-855-5000; fax 514-855-7401; email thd.crj@aero.bombardier.com; Internet http://www.bombardier.com. For COMTEK service information identified in this proposed AD, contact Comtek Aftermarket Structures, 1360 Artisans Court, Burlington, Ontario, Canada, L7L 5Y2; telephone 905-331-8121; fax 905-331-8125; email abrown@comtekadvanced.com; Internet http://www.comtekadvanced.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Cesar Gomez, Aerospace Engineer, Airframe and Mechanical Systems Branch, ANE-171, FAA, New York Aircraft Certification Office, 1600 Stewart Avenue, Suite 410, Westbury, New York 11590; telephone 516-228-7318; fax 516-794-5531.

SUPPLEMENTARY INFORMATION:

Comments Invited

We invite you to send any written relevant data, views, or arguments about this proposed AD. Send your comments to an address listed under the ADDRESSES section. Include “Docket No. FAA-2012-0721; Directorate Identifier 2012-NM-076-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

Transport Canada Civil Aviation (TCCA), which is the aviation authority for Canada, has issued Canadian AD CF-2012-11, dated March 23, 2012 (referred to after this as “the MCAI”), to correct an unsafe condition for the specified products. The MCAI states:

It was found that the cargo compartment liners installed on CL-600-2B19 configured with Class C cargo compartment do not all meet the flammability requirements. Non-compliant cargo compartment liners may not provide adequate fire protection and could lead to an uncontrolled baggage bay fire.

This AD mandates the replacement of existing cargo compartment liners with compliant cargo compartment liners.

Aeroplanes modified with [TCCA] Supplemental Type Certificate (STC) Number SA01-19 Issue No. 1 [corresponding FAA STC ST01292NY, amended July 7, 2003 http://www.airweb.faa.gov/Regulatory_and_Guidance_Library/rgstc.nsf/0/1BB5140B1D3A130086256D7A006DF851?OpenDocument&Highlight=st01292ny] Cargo Liner Replacement Panels are also affected by this AD.

You may obtain further information by examining the MCAI in the AD docket.

Relevant Service Information

Bombardier, Inc. issued the following service information:

• Bombardier Service Bulletin 601R-25-187, Revision A, dated September 1, 2011;

• Bombardier Service Bulletin 601R-25-198, dated September 1, 2011; and

• Bombardier Service Bulletin 601R-25-199, dated September 1, 2011.

Comtek Aftermarket Structures issued COMTEK Service Bulletin COMSB-25-52-001, Revision A, dated December 29, 2011.

The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

Based on the service information, we estimate that this proposed AD would affect about 574 products of U.S. registry. We also estimate that it would take about 87 work-hours per product to comply with the basic requirements of this proposed AD. The average labor rate is $85 per work-hour. Required parts would cost about $43,559 per product. Where the service information lists required parts costs that are covered under warranty, we have assumed that there will be no charge for these parts. As we do not control warranty coverage for affected parties, some parties may incur costs higher than estimated here. Based on these figures, we estimate the cost of the proposed AD on U.S. operators to be $29,247,596, or $50,954 per product.

Authority for This Rulemaking

Title 49 of the United States Code specifies the FAA's authority to issue rules on aviation safety. Subtitle I, section 106, describes the authority of the FAA Administrator.

“Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Bombardier, Inc.: Docket No. FAA-2012-0721; Directorate Identifier 2012-NM-076-AD.

(a) Comments Due Date

We must receive comments by September 4, 2012.

(b) Affected ADs

None.

(c) Applicability

This AD applies to Bombardier, Inc. Model CL-600-2B19 (Regional Jet Series 100 & 440) airplanes, certificated in any category; serial numbers 7003 and subsequent, configured with a Class C cargo compartment, including airplanes modified by Supplemental Type Certificate (STC) ST01292NY amended July 7, 2003.

(d) Subject

Air Transport Association (ATA) of America Code 25, Equipment/furnishings.

(e) Reason

This AD was prompted by reports that airplanes with a Class C cargo (baggage) compartment have liners that do not meet flammability requirements. We are issuing this AD to prevent inadequate fire protection in the cargo compartment and consequent uncontrolled fire.

(f) Compliance

You are responsible for having the actions required by this AD performed within the compliance times specified, unless the actions have already been done.

(g) Actions

Within 28 months after the effective date of this AD, replace the cargo compartment liners in accordance with the Accomplishment Instructions of the applicable service bulletin specified in paragraphs (g)(1) through (g)(3) of this AD. For airplanes that do not have a configuration specified in paragraphs (g)(1) through (g)(3) of this AD: Prior to accomplishing the replacement, convert the cargo compartment liner to one of the configurations specified in paragraphs (g)(1) through (g)(3) of this AD, in accordance with a method approved by the FAA or Transport Canada Civil Aviation (TCCA) (or its delegated agent). To meet the requirements of this AD, the applicable Bombardier Service Bulletin or COMTEK Service Bulletin must be followed in its entirety, with no mixing of Bombardier-supplied or COMTEK-supplied liners.

(1) For airplanes with North American cargo compartment configuration: Bombardier Service Bulletin 601R-25-187, Revision A, dated September 1, 2011; or COMTEK Service Bulletin COMSB-25-52-001, Revision A, dated December 29, 2011.

(2) For airplanes with European cargo compartment configuration: Bombardier Service Bulletin 601R-25-198, dated September 1, 2011.

(3) For airplanes with Universal cargo compartment configuration: Bombardier Service Bulletin 601R-25-199, dated September 1, 2011.

Note (1) to paragraph (g) of this AD: COMTEK Service Bulletin COMSB-25-52-001, Revision A, dated December 29, 2011, installs STC ST01292NY amended March 21, 2012 (corresponds to Transport Canada Civil Aviation (TCCA) STC SA01-19, Issue 2) flammability-compliant cargo liner replacement panels.

(h) Credit for Previous Actions

This paragraph provides credit for certain actions specified in paragraph (g)(1) of this AD, if those actions were performed before the effective date of this AD using Bombardier Service Bulletin 601R-25-187, dated July 21, 2011.

(i) Parts Installation Prohibition

(1) As of the effective date of this AD, no person may install a cargo compartment liner, identified as “Pre-SB Part Number” in paragraph 1.M. of the Bombardier service bulletins identified in paragraphs (g)(1) through (g)(3) of this AD; or “Pre-SB P/N” in paragraph 3.D. of COMTEK Service Bulletin COMSB-25-52-001, Revision A, dated December 29, 2011; or FAA STC ST01292NY amended July 7, 2003 http://www.airweb.faa.gov/Regulatory_and_Guidance_Library/rgstc.nsf/0/1BB5140B1D3A130086256D7A006DF851?OpenDocument&Highlight=st01292ny; on any airplane.

(j) Other FAA AD Provisions

The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, New York 11590; telephone 516-228-7300; fax 516-794-5531. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

(1) Refer to MCAI Canadian Airworthiness Directive CF-2012-11, dated March 23, 2012, and the service information identified in paragraphs (k)(1)(i) through (k)(1)(iv) of this AD, for related information.

(i) Bombardier Service Bulletin 601R-25-187, Revision A, dated September 1, 2011.

(ii) Bombardier Service Bulletin 601R-25-198, dated September 1, 2011.

(iii) Bombardier Service Bulletin 601R-25-199, dated September 1, 2011.

(iv) COMTEK Service Bulletin COMSB-25-52-001, Revision A, dated December 29, 2011.

(2) For Bombardier service information identified in this AD, contact Bombardier, Inc., 400 Côte-Vertu Road West, Dorval, Québec H4S 1Y9, Canada; telephone 514-855-5000; fax 514-855-7401; email thd.crj@aero.bombardier.com; Internet http://www.bombardier.com. For COMTEK service information identified in this AD, contact Comtek Aftermarket Structures, 1360 Artisans Court, Burlington, Ontario, Canada, L7L 5Y2; telephone 905-331-8121; fax 905-331-8125; email abrown@comtekadvanced.com; Internet http://www.comtekadvanced.com. You may review copies of the referenced service information at the FAA, Transport Airplane Directorate, 1601 Lind Avenue SW., Renton, Washington. For information on the availability of this material at the FAA, call 425-227-1221.

Issued in Renton, Washington, on July 6, 2012.
Kalene C. Yanamura,
Acting Manager, Transport Airplane Directorate, Aircraft Certification Service.

[FR Doc. 2012-17608 Filed 7-18-12; 8:45 am]

BILLING CODE 4910-13-P